AGENCY FOR INTERNATIONAL DEVELOPMENT

Draft Supplemental to the Food for Peace Monetization Field Manual

Pursuant to the Agriculture Market and Transition Act of 1996 (Pub. L. 480, as amended), notice is hereby given that the Draft Supplemental to the Food for Peace Monetization Field Manual—Policy on the Use of Non—fat Dry Milk for Monetization is available to interested parties for the required thirty (30) days comment period.

Individuals who wish to receive a copy of these draft guidelines may download them from the USAID website at: http://www.usaid.gov/hum_response/ffp/ or contact: Office of Food for Peace, Agency for International Development, RRB 7.06-120, 1300 Pennsylvania Avenue, Washington, DC 20523-0809.

Contact person: Jean Capps, (202) 712-0086. Individuals who have questions or comments on this draft addendum should contact Richard Newberg at (202) 712-1828.

The thirty day comment period will begin on the date that this announcement is published in the Federal Register.

Dated: September 17, 2001.
William T. Oliver,
Director, Office of Food for Peace, Bureau for Humanitarian Response.

[FR Doc. 01-23949 Filed 9-24-01; 8:45 am]

BILLING CODE 6116-01-M